DEPARTMENT OF AGRICULTURE

Forest Service

Proposed New Recreation Fee Sites

AGENCY: Forest Service, Agriculture (USDA).

ACTION: Notice.

SUMMARY: The Humboldt-Toiyabe National Forest is proposing to establish several new recreation fee sites. Proposed new recreation fees collected at the proposed new recreation fee sites would be used for operation, maintenance, and improvement of the sites. An analysis of nearby recreation fee sites with similar amenities shows the proposed new recreation fees that would be charged at the proposed new recreation fee sites are reasonable and typical of similar recreation fee sites in the area.

DATES: If approved, the proposed new recreation fee sites and proposed new recreation fees would be established no earlier than six months following the date of publication of this notice in the Federal Register.

ADDRESSES: Humboldt-Toiyabe National Forest, 1200 Franklin Way, Sparks, Nevada 89431.

FOR FURTHER INFORMATION CONTACT: Randy Kyes, Recreation Program Manager, (775) 331-6444 or randy.kyes@usda.gov.

SUPPLEMENTARY INFORMATION: The Federal Lands Recreation Enhancement Act (16 U.S.C. 6803(b)) requires the Forest Service to publish a six-month advance notice in the Federal Register of establishment of proposed new recreation fee sites. In accordance with Forest Service Handbook 2309.13, chapter 30, the Forest Service will publish the proposed new recreation fee sites and proposed new recreation fees in local newspapers and other local publications for public comment. Most of the proposed new recreation fees collected at the proposed new recreation fee sites would be spent where they are collected to enhance the visitor experience at the sites.

A proposed expanded amenity recreation fee of $10 per night would be charged for Barley Creek Trailhead, Big Creek, Columbine, Jack Creek, Kingston, Peavine Creek, Pine Creek, Pine Creek (Tonopah Ranger District), San Juan Community Use Area, Sawmill, Slide Creek, and Toquima Cave Campgrounds. A proposed expanded amenity recreation fee of $250 per hour for groups of up to 250 people would be charged for Spring Mountains Visitor Gateway Amphitheater, and a proposed expanded amenity recreation fee of $50 per hour for groups of up to 36 people would be charged for the Spring Mountains Visitor Gateway Education Center.

Expenditures of the proposed new recreation fees collected at the proposed new recreation fee sites would enhance recreation opportunities, improve customer service, and address maintenance needs. Once the public involvement process is complete, the proposed new recreation fee sites and proposed new recreation fees will be reviewed by a Recreation Resource Advisory Committee prior to a final decision and implementation. Reservations for campgrounds and cabins could be made online at www.recreation.gov or by calling 877-444-6777. Reservations would cost $8.00 per reservation.

Dated: March 29, 2024.
Jacqueline Emanuel,
Associate Deputy Chief, National Forest System.

[FR Doc. 2024-07531 Filed 4-9-24; 8:45 am]

BILLING CODE 3411-15-P